DEPARTMENT OF ENERGY

Federal Energy Regulatory Commission

[Docket No. RP14-638-000; CP14-125-000; CP14-126-000]

Atmos Energy Corporation v. American Midstream (Midla) LLC; Notice of Meeting

On March 24, 2014, in Docket No. RP14-638-000, Atmos Energy Corporation (Atmos) filed a complaint against American Midstream (Midla) LLC (Midla) alleging, among other things, that Midla's open season notice and process violate the requirements of section 7(b) of the Natural Gas Act. On March 28, 2014, in Docket No, CP14-125-000, Midla filed an application under section 7(b) of the NGA to abandon segments of its jurisdictional pipeline that are currently used to provide service to Atmos, as well as other shippers. Concurrently, Midla filed a prior notice filing in Docket No. CP14-126-000 requesting to abandon the remainder of its jurisdictional pipeline by sale to an affiliate. The parties in the active alternative dispute resolution proceeding have requested a meeting with Commission staff to ask procedural questions related to any forthcoming filings in the three docketed proceedings.

There will be a morning meeting on November 19, 2014 beginning at 10 a.m. in Hearing Room 5 at the Federal Energy Regulatory Commission, 888 First Street NE., Washington, DC. The meeting will cover procedural questions related to any future filings. If a party has any questions and for access to the building, please contact Dispute Resolution Division, Support Specialist, Sara Klynsma, at (202) 502-8259.

FERC conferences are accessible under section 508 of the Rehabilitation Act of 1973. For accessibility accommodations please send an email to accessibility@ferc.gov or call toll free 1-866-208-3372 (voice) or 202-208-8659 (TTY), or send a FAX to 202-208-2106 with the required accommodations.

Dated: November 13, 2014.
Kimberly D. Bose,
Secretary.

[FR Doc. 2014-27551 Filed 11-26-14; 8:45 am]

BILLING CODE 6717-01-P